DEPARTMENT OF LABOR

Employment and Training Administration

[TA-W-59,259]

Nautilus, Inc., Tyler, TX; Notice of Termination of Investigation

Pursuant to section 221 of the Trade Act of 1974, an investigation was initiated on April 21, 2006 in response to a petition filed by the Workforce Center Coordinator on behalf of workers at Nautilus, Inc., Tyler, Texas.

The petitioner has requested that the petition be withdrawn. Consequently, the investigation has been terminated.

Signed in Washington, DC this 26th day of April 2006.
Elliott S. Kushner,
Certifying Officer, Division of Trade Adjustment Assistance.

[FR Doc. E6-7129 Filed 5-9-06; 8:45 am]

BILLING CODE 4510-30-P